OFFICE OF THE UNITED STATES TRADE REPRESENTATIVE

Recognition by Singapore of U.S. Law Schools Under the U.S.—Singapore Free Trade Agreement

AGENCY: Office of the United States Trade Representative.

ACTION: Request for comments concerning recognition by Singapore of U.S. law schools under the U.S.—Singapore Free Trade Agreement.

SUMMARY: The Office of the United States Trade Representative (USTR) is seeking public comment in selecting four U.S. law schools whose degrees will be recognized by Singapore for admission to the Singapore bar, as required under the U.S.—Singapore Free Trade Agreement.

DATES: Written comments are due by noon, Monday, January 3, 2005.

ADDRESSES: Submissions by electronic mail: FR0511@ustr.eop.gov. Submissions by facsimile: Janice Shields, Office of Southeast Asia, the Pacific and Pharmaceutical Policy, Office of the United States Trade Representative, (202) 395-6813. The public is strongly encouraged to submit documents electronically rather than by facsimile. (See requirements for submissions below.)

FOR FURTHER INFORMATION CONTACT: Questions should be directed to Elena Bryan, Deputy Assistant U.S. Trade Representative for Southeast Asia and the Pacific, (202) 395-6813 or Will Martyn, Associate General Counsel, (202) 395-3582.

SUPPLEMENTARY INFORMATION:

1. Background

The U.S.—Singapore Free Trade Agreement (“FTA”) entered into force on January 1, 2004. The text of the FTA, including side letters, can be found on the USTR Web site at http://www.ustr.gov/Trade_Agreements/Bilateral/Singapore_FTA/Final_Texts/Section_Index.html. As part of its obligations in the FTA, Singapore committed to the recognition of the degree of Doctor of Jurisprudence (“J.D.”) or equivalent law degree, conferred by one of four U.S. law schools to be designated later, for the purposes of admission into the Singapore Bar.

At the time of signature of the FTA, Singapore and the United States also signed a side letter on legal services, which establishes the following criteria for such recognition:

(a) Such recognition will only be conferred on persons who are Singapore citizens or Singapore Permanent Residents at the time they receive the J.D. or equivalent law degree from one of the four designated U.S. law schools;

(b) Such recognition will only apply to a J.D. or equivalent law degree obtained by a full-time internal candidate (as defined in Singapore legislation) after a 3-year course of study, the entire course of which was conducted within the United States;

(c) Such recognition will only be conferred on persons who have been ranked by the law school as being amongst the highest 40 percent, in terms of academic performance, of the total number of law school graduates in the same batch who have been conferred that degree by that law school; and

(d) The person seeking recognition must obtain the Diploma in Singapore law conferred by the National University of Singapore, attend and pass the Postgraduate Legal Practice Course organized by the Board of Legal Education, complete the prescribed periods of pupilage, and comply with all other requirements which may be imposed from time to time by Singapore on graduates from non-Singapore law schools provided that such additional requirements does not discriminate against graduates of U.S. law schools vis-á-vis graduates from other non-Singapore law schools.

Singapore has proposed that the law schools of Columbia University, Harvard University, New York University and Yale University be so designated.

2. Public Comment

USTR invites written comments on whether the law schools of Columbia University, Harvard University, New York University and Yale University should be designated as the four whose degrees will be recognized by Singapore. Submitters who oppose designation of one or more of these law schools should provide reasons for opposition, propose an alternative law school, and provide reasons that this alternative should be accepted.

Written comments must be received no later than noon, Monday, January 3, 2005.

3. Requirements for Submissions

In order to facilitate prompt processing of submissions, USTR strongly urges and prefers electronic (e-mail) submissions in response to this notice. In the event that an e-mail submission is impossible, submissions should be made by facsimile.

Persons making submissions by e-mail should use the following subject line: Singapore FTA-Law Schools' followed by “Written Comments.” Documents should be submitted as either Adobe PDF, WordPerfect, MSWord, or text (.TXT) files. Supporting documentation submitted as spreadsheets is acceptable as Quattro Pro or Excel. For any document containing business confidential information submitted electronically, the file name of the business confidential version should begin with the characters “BC-”. A public version of the document should also be submitted, with a file name beginning with the characters “P-”. The “P-” or “BC-”should be followed by the name of the submitter. Persons who make submissions by e-mail should not provide separate cover letters; information that might appear in a cover letter should be included in the submission itself. Similarly, to the extent possible, any attachments to the submission should be included in the same file as the submission itself, and not as separate files.

All documents will be placed in a file open to public inspection pursuant to 15 CFR 2003.5, except confidential business information exempt from public inspection in accordance with 15 CFR 2003.6. Confidential business information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

General information concerning USTR may be obtained by accessing its Internet Web site (http://www.ustr.gov).

Barbara Weisel,
Assistant United States Trade Representative.

[FR Doc. 04-26923 Filed 12-7-04; 8:45 am]

BILLING CODE 3190-W5-P